GENERAL SERVICES ADMINISTRATION

Office of Governmentwide Policy; Cancellation of an Optional Form by the Department of State

AGENCY: General Services Administration.

ACTION: Notice.

SUMMARY: The Department of State is cancelling the following Optional Form because of low usage: OF 261, Travel Advance Application Voucher and Account.

DATES: Effective July 6, 2005.

FOR FURTHER INFORMATION CONTACT: Mr. Charles Cunningham, Department of State, 202.647.0596.

Dated: June 27, 2005.
Barbara M. Williams,
Deputy Standard and Optional Forms Management Officer, General Services Administration.

[FR Doc. 05-13289 Filed 7-5-05; 8:45 am]

BILLING CODE 6820-34-M